DEPARTMENT OF LABOR

Occupational Safety and Health Administration

29 CFR Part 1910

[Docket No. S-108C]

RIN 1218-AB95

Electrical Standard; Approval of Information Collection Requirements

AGENCY: Occupational Safety and Health Administration (OSHA), Labor.

ACTION: Final rule; notice of Office of Management and Budget (OMB) approval of collection of information requirements.

SUMMARY: OSHA is announcing that the collection of information requirements contained in the Design Safety Standards for Electrical Systems of 29 CFR Part 1910.302 through 1910.308 and 1910.399, Subpart S, have been approved by OMB under the Paperwork Reduction Act of 1995. The OMB approval number is 1218-0256.

DATES: This final rule is effective August 13, 2007.

FOR FURTHER INFORMATION CONTACT: Todd Owen, OSHA, Directorate of Standards and Guidance, Room N-3609, U.S. Department of Labor, 200 Constitution Avenue, NW., Washington, DC 20210; telephone (202) 693-2222.

SUPPLEMENTARY INFORMATION:

OSHA published a final rule for the Design Safety Standards for Electrical Systems (Electrical Standard) on February 14, 2007, after determining that electrical hazards pose a significant risk of injury or death to employees in the workplace. In addition, this revision of these requirements is reasonably necessary to provide protection from these hazards. The final rule becomes effective on August 13, 2007. As required by the Paperwork Reduction Act of 1995, the Federal Register notice for the Electrical Standard final rule stated that compliance with the collection of information requirements was not required until those collection of information requirements have been approved by OMB, and the Department of Labor publishes a notice in the Federal Register announcing that OMB approved and assigned a control number to the Electrical Standard collection of information requirements. Under 5 CFR 1320.5(b), an agency may not conduct or sponsor a collection of information unless: (1) The collection of information displays a current valid OMB control number; and (2) the agency informs members of the public who must respond to the collection of information that they are not required to respond to the collection of information unless the agency displays a currently valid OMB control number.

On February 14, 2007, OSHA submitted the Electrical Standard information collection request for the final rule to OMB for approval in accordance with the Paperwork Reduction Act of 1995 (44 U.S.C. 3501-3520). On May 22, 2007, OMB approved the collections of information contained in the final rule and assigned these collections OMB Control Number 1218-0256 titled “Design Safety Standards for Electrical Systems (29 CFR 1910.302-308 and 1910.399.)” The approval for these collections expires on May 31, 2010. The approved collections of information are:

A. Disconnecting Means and Circuits (§ 1910.303(f))

Section 1910.303(f)(5)(i)

Where circuit breakers or fuses are applied in compliance with the series combination ratings marked on the equipment by the manufacturer, the equipment enclosures shall be legibly marked in the field to indicate that the equipment has been applied with a series combination rating.

Section 1910.303(f)(5)(ii)

The marking required by paragraph (f)(5)(i) of this section shall be readily visible and shall state “Caution—Series Combination System Rated__Amperes. Identified Replacement Component Required.”

B. Branch Circuits (§ 1910.304(b))

Section 1910.304(b)(1)

Where more than one nominal voltage system exists in a building containing multiwire branch circuits, each ungrounded conductor of a multiwire branch circuit, where accessible, shall be identified by phase and system. The means of identification shall be permanently posted at each branch-circuit panelboard.

Section 1910.304(b)(3)(ii)(C)(1)

(C) Where the ground-fault circuit-interrupter protection required by paragraph (b)(3)(ii)(B) of this section is not available for receptacles other than 125-volt, single-phase, 15-, 20-, and 30-ampere, the employer shall establish and implement an assured equipment grounding conductor program covering cord sets, receptacles that are not a part of the building or structure, and equipment connected by cord and plug that are available for use or used by employees on those receptacles. This program shall comply with the following requirements:

(1) A written description of the [assured equipment grounding conductor (AEGC)] program, including the specific procedures adopted by the employer, shall be available at the jobsite for inspection and copying by the Assistant Secretary of Labor and any affected employee[.]

Section 1910.304(b)(3)(ii)(C)(6)

Tests performed as required in paragraph (b)(3)(ii)(C) of this section shall be recorded. This test record shall identify each receptacle, cord set, and cord- and plug-connected equipment that passed the test and shall indicate the last date it was tested or the interval for which it was tested. This record shall be kept by means of logs, color coding, or other effective means and shall be maintained until replaced by a more current record. The record shall be made available on the jobsite for inspection by the Assistant Secretary and any affected employee.¹

¹ Paragraph (b)(3)(ii)(C)(4) of the section specifies the testing requirements as follows: “The following tests shall be performed on all cord sets and receptacles which are not a part of the permanent wiring of the building or structure, and cord- and plug-connected equipment required to be grounded: (i) All equipment grounding conductors shall be tested for continuity and shall be electrically continuous; (ii) [e]ach receptacle and attachment cap or plug shall be tested for correct attachment of the equipment grounding conductor. The equipment grounding conductor shall be connected to its proper terminal; and (iii) [a]ll required tests shall be performed before first use; before equipment is returned to service following any repairs; before equipment is used after any incident which can be reasonably suspected to have caused damage (for example, when a cord set is run over); and at intervals not to exceed 3 months, except that cord sets and receptacles which are fixed and not exposed to damage shall be tested at intervals not exceeding 6 months[.]

C. Identification and Signs (§ 1910.306(c))

Section 1910.306(c)(6)(i)

Where there is more than one driving machine in a machine room, the disconnecting means shall be numbered to correspond to the identifying number of the driving machine that they control.

Section 1910.306(c)(6)(ii)

The disconnecting means shall be provided with a sign to identify the location of the supply-side overcurrent protective device.

D. Carnivals, Circuses, Fairs, and Similar Events (§ 1910.306(k))

Section 1910.306(k)(4)(iv)(B)

Single-pole separable connectors used in portable professional motion picture and television equipment may be interchangeable for ac or dc use or for different current ratings on the same premises only if they are listed for ac/dc use and marked to identify the system to which they are connected[.]

E. Documentation (§ 1910.307(b))

All areas designated as hazardous (classified) locations under the Class and Zone system and areas designated under the Class and Division system established after August 13, 2007 shall be properly documented. This documentation shall be available to those authorized to design, install, inspect, maintain, or operate electric equipment at the location.

F. Emergency Power Systems (§ 1910.308(b))

Section 1910.308(b)(3)(i)

A sign shall be placed at the service entrance equipment indicating the type and location of on-site emergency power sources. However, a sign is not required for individual unit equipment.

Section 1910.308(b)(3)(ii)

Where the grounded circuit conductor connected to the emergency source is connected to a grounding electrode conductor at a location remote from the emergency source, there shall be a sign at the grounding location that shall identify all emergency and normal sources connected at that location.

List of Subjects in 29 CFR Part 1910

Electric power, Fire prevention, Hazardous substances, Occupational safety and health, Safety.

Authority and Signature

Edwin G. Foulke, Jr., Assistant Secretary of Labor for Occupational Safety and Health, directed the preparation of this notice. The authority for this notice is the Paperwork Reduction Act of 1995 (44 U.S.C. 3506 et seq.), and Secretary of Labor's Order No. 5-2007 (72 FR 31159).

Signed at Washington, DC on July 16, 2007.
Edwin G. Foulke, Jr.,
Assistant Secretary of Labor for Occupational Safety and Health.

Amendments to Standards

For the reasons stated in the preamble to this final rule, the Occupational Safety and Health Administration amends 29 CFR Part 1910, subpart A to read as follows:

PART 1910—[AMENDED]

Subpart A—[AMENDED]

1. Revise the authority citation for subpart A to read as follows:

Authority: Sections 4, 6, and 8 of the Occupational Safety and Health Act of 1970 (29 U.S.C. 653, 655, and 657); Secretary of Labor's Order No. 12-71 (36 FR 8754), 8-76 (41 FR 25059), 9-83 (48 FR 35736), 1-90 (55 FR 9033), 6-96 (62 FR 111), 3-2000 (65 FR 50017), 5-2002 (67 FR 65008), and S-2007 (72 FR 31159), as applicable.

Sections 1910.7 and 1910.8 also issued under 29 CFR Part 1911. Section 1910.7(f) also issued under 31 U.S.C. 9701, 29 U.S.C. 9a, 5 U.S.C. 553; Pub. L. 106-113 (113 Stat. 1501A-222); and OMB Circular A-25 (dated July 8, 1993) (58 FR 38142, July 15, 1993).

2. Amend § 1910.8 by adding to the table contained therein the entry “1910.302-.308” in the proper numerical sequence as follows:

§ 1910.8 OMB Control numbers under the Paperwork Reduction Act.

* * * * *

29 CFR citation | OMB control No.
* * * *
1910.302-.308 | 1218-0256
* * * *

[FR Doc. E7-14113 Filed 7-20-07; 8:45 am]

BILLING CODE 4510-26-P